DEPARTMENT OF TRANSPORTATION

National Highway Traffic Safety Administration

49 CFR Parts 523, 533 and 537

[Docket No. NHTSA 2006-24309]

RIN 2127-AJ61

Average Fuel Economy Standards for Light Trucks Model Years 2008-2011

AGENCY: National Highway Traffic Safety Administration (NHTSA), Department of Transportation.

ACTION: Final rule; correction.

SUMMARY: The National Highway Traffic Safety Administration published in the Federal Register of April 6, 2006, a final rule establishing Corporate Average Fuel Economy (CAFE) standards for light trucks manufactured in model years 2008 through 2011. Inadvertently, the document had the wrong docket number; footprint and target fuel economy values provided in example calculations did not have the correct number of decimal places; the definition of “footprint” in the regulatory text was incorrect; and Figure 1 of the regulatory text incorrectly referenced “model,” as opposed to “model type.” Additionally, there was a typographical error in the regulatory text regarding the flat floor provision. This document makes the appropriate corrections.

Effective Date: August 4, 2006. Petitions for reconsideration must be received by May 22, 2006.

FOR FURTHER INFORMATION CONTACT: For technical issues, call Ken Katz, Lead Engineer, Fuel Economy Division, Office of International Vehicle, Fuel Economy, and Consumer Standards, at (202) 366-0846, facsimile (202) 493-2290, electronic mail kkatz@nhtsa.dot.gov. For legal issues, call Stephen Wood or Christopher Calamita of the Office of the Chief Counsel, at (202) 366-2992, or e-mail them at swood@nhtsa.dot.gov or ccalamita@nhtsa.dot.gov.

SUPPLEMENTARY INFORMATION: The National Highway Traffic Safety Administration published in the Federal Register of April 6, 2006, (71 FR 17566) a final rule establishing fuel Corporate Average Fuel Economy (CAFE) standards for light trucks manufactured in model years 2008 through 2011. Inadvertently, the document had the wrong docket number; footprint and target fuel economy values provided in example calculations did not have the correct number of decimal places; the regulatory text incorrectly incorporated the proposed definition of “footprint,” as opposed to the final definition discussed in the preamble of the final rule; and Figure 1 of the regulatory text incorrectly referenced “model” instead of “model type.”

This document provides the correct docket number, amends the footprint values in example calculations such that the footprint values are provided to the nearest tenth of a square foot, amends the fuel economy target values in example calculations such that the target values are provided to the nearest hundredth mile per gallon, amends the definition of “footprint” to clarify the precision of the value and reflect the definition discussed in the preamble, and amends Figure 1 by referencing “model type.” Additionally, this document corrects a typographical error in the “flat floor” regulatory text, i.e., “flat-leveled cargo surface” is corrected to read “flat, leveled cargo surface.”

In FR Docket No. NHTSA 2006-24306 published on April 6, 2006 (71 FR 17566) make the following corrections.

On page 17566, in the first column, the Docket number is revised to read, “NHTSA No. 2006-24309.”

On page 17608, Table 5 is revised to read as follows,

Table 5.—Illustrative Example of Method of Assessing Compliance Under a Continuous Function Approach
Model | Fuel economy (mpg) | Production (units) | Footprint (sq. ft.) | Footprint target (mpg)
A | 27.0 | 100,000 | 43.0 | 27.53
B | 24.0 | 100,000 | 42.0 | 27.93
C | 22.0 | 100,000 | 52.0 | 23.71
D | 19.0 | 100,000 | 54.0 | 23.15

On page 17609, at the top of the page, the formula labeled “Required CAFE Level” is revised to read as follows,

On page 17676, in the first column, the definition of “Footprint,” is revised to read, “Footprint is defined as the product of track width (measured in inches and rounded to the nearest tenth of an inch) times wheelbase (measured in inches and rounded to the nearest tenth of an inch) divided by 144 and then rounded to the nearest tenth of a square foot. For purposes of this definition, track width is the lateral distance between the centerlines of the base tires at ground, including the camber angle. For purposes of this definition, wheelbase is the longitudinal distance between front and rear wheel centerlines.”

On page 17676, in the third column, paragraph (ii) is revised to read, “For light trucks manufactured in model year 2008 and beyond, for vehicles equipped with at least 3 rows of designated seating positions as standard equipment, permit expanded use of the automobile for cargo-carrying purposes or other nonpassenger-carrying purposes through the removal or stowing of foldable or pivoting seats so as to create a flat, leveled cargo surface extending from the forwardmost point of installation of those seats to the rear of the automobile's interior.”

On the bottom of page 17676 and continuing on the top of page 17677, between Table IV and V, Figure 1 is revised to read as follows,

Where:

N is the total number (sum) of light trucks produced by a manufacturer, Ni is the number (sum) of the ith light truck model type produced by the manufacturer, and

Ti is fuel economy target of the ith light truck model type, which is determined according to the following formula, rounded to the nearest hundredth:

Where:

Parameters a, b, c, and d are defined in § 533.3 Table V;

e = 2.718; and

x = footprint (in square feet, rounded to the nearest tenth) of the model type

On page 17677, in the second column, Appendix A Table 1, is revised to read as follows:

“Appendix A Table 1”

Model | Fuel economy | Volume | Footprint (ft²)
A | 27.0 | 1,000 | 42.0
B | 25.6 | 1,500 | 44.0
C | 25.4 | 1,000 | 46.0
D | 22.1 | 2,000 | 50.0
E | 22.4 | 3,000 | 55.0
F | 20.2 | 1,000 | 66.0

Note to Appendix A Table 1. Manufacturer X's required corporate average fuel economy level under § 533.5(g) would be calculated by first determining the fuel economy target applicable to each vehicle as illustrated in “Appendix A Figure 1:”

On page 17677, in the third column, Appendix A Figure 1 is revised to read as follows:

“Appendix A Figure 1”

Model | Footprint (ft²) | MY 2008 fuel economy target (mpg)
A | 42.0 | 26.20
B | 44.0 | 25.50
C | 46.0 | 24.80
D | 50.0 | 23.30
E | 55.0 | 21.70
F | 66.0 | 20.30

Note to Appendix A Figure 1. Accordingly, vehicle models A, B, C, D, E, and F would be compared to fuel economy values of 26.20, 25.50, 24.80, 23.30, 21.70, and 20.30 mpg, respectively. With the appropriate fuel economy targets calculated, Manufacturer X's required fuel economy would be calculated as illustrated in “Appendix A Figure 2.”

On page 17677, Appendix A Figure 2, is revised to read as follows:

Issued: April 7, 2006.
Ronald Medford,
Senior Associate Administrator for Vehicle Safety.

[FR Doc. 06-3533 Filed 4-11-06; 3:08 pm]

BILLING CODE 4910-59-P